DEPARTMENT OF DEFENSE

Department of the Army

[Docket ID: USA-2008-0072]

Privacy Act of 1974; System of Records

AGENCY: Department of the Army, DoD.

ACTION: Notice to Amend a System of Records.

SUMMARY: The Department of the Army is proposing to amend a system of records in its existing inventory of records systems subject to the Privacy Act of 1974 (5 U.S.C. 552a), as amended.

DATES: The proposed action will be effective on November 14, 2008 unless comments are received that would result in a contrary determination.

ADDRESSES: Department of the Army, Privacy Office, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: October 7, 2008.
Patricia L. Toppings,
OSD Federal Register Liaison Officer, Department of Defense.

DHA 03

System name:

Pentagon Employee Referral Service (PERS) Counseling Records (February 22, 1993, 58 FR 10227).

Changes:

Change system ID to “A0040-66c DASG”.

* * * * *

System Location:

Delete entry and replace with “Pentagon Employee Referral Service, DiLorenzo TRICARE Health Clinic, Room 224, 5803 Army Pentagon, Washington, DC 20310-5803.”

* * * * *

Authority for maintenance of the system:

Delete entry and replace with “10 U.S.C. 3013, Secretary of the Army; 5 U.S.C. Part 792, Federal Employees’ Health and Counseling Programs; E.O. 12564, 1986 Drug-Free Workplace; Army Regulation 40-66, Medical Record Administration and Health Care Documentation; and E.O. 9397 (SSN).”

* * * * *

Add two Notes under Routine uses of records maintained in the system, including categories of users and the purposes of such uses:

Note: Records of identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974 in regard to accessibility of such records except to the individual to whom the record pertains. The DoD `Blanket Routine Uses' do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

* * * * *

Storage:

Delete entry and replace with “Paper records in filing cabinets and electronic storage media.”

Retrievability:

Delete entry and replace with “Patient's last name, Social Security Number (SSN) and Client Case Number.”

Safeguards:

Delete entry and replace with “Paper records are maintained in file cabinets that are locked when the office is not occupied by authorized personnel. The automated database files are on a password-protected, stand alone computer. All patient records are maintained and used with the highest regard for patient privacy. Only persons on a need-to-know basis and trained in the handling of information protected by the Privacy Act have access to the system.”

Retention and disposal:

Delete entry and replace with “Paper records are destroyed five years after termination of counseling. Destruction is by shredding, pulping, macerating, or burning.

Electronic records are purged of identifying data seven years after termination of counseling.

Aggregate data without personal identifiers is maintained for management/statistical purposes until no longer required.”

System manager(s) and address:

Delete entry and replace with “Director, Pentagon Employee Referral Service, DiLorenzo TRICARE Health Clinic, Rm. 230, 5803 Army Pentagon, Washington, DC 20310-5803.”

Notification procedure:

Delete entry and replace with “Individuals seeking to determine whether information about themselves is contained in this system should address written inquiries to the Director, Pentagon Employee Referral Service, DiLorenzo TRICARE HEALTH Clinic, 5803 Army Pentagon, Washington, DC 20310-5803.

The request should contain the full name, address, Social Security Number (SSN) and the signature of the subject individual.”

Record access procedures:

Delete entry and replace with “Individuals seeking access to information about themselves contained in this system should address written inquiries to the Director, Pentagon Employee Referral Service, DiLorenzo TRICARE Health Clinic, Rm. 230, 5803 Army Pentagon, Washington, DC 20310-5803.

The request should contain the full name, address, Social Security Number (SSN) and the notarized signature of the subject individual.”

Contesting record procedures:

Delete entry and replace with “The Army's rules for accessing records, and for contesting contents and appealing initial agency determinations are contained in Army Regulation 340-21; 32 CFR part 505; or may be obtained from the system manager.”

* * * * *

A0040-66c DASG

System name:

Pentagon Employee Referral Service (PERS) Counseling Records.

System location:

Pentagon Employee Referral Service, DiLorenzo TRICARE Health Clinic, Room 224, 5803 Army Pentagon, Washington, DC 20310-5803

Categories of individuals covered by the system

All civilian DoD employees assigned to duty in the Pentagon and environ who are referred by management for, or voluntarily request, counseling assistance.

Categories of records in the system:

Records on patients which are generated in the course of professional counseling. Records of information on condition, current status, progress and prognosis for patients who have personal, emotional, alcohol or drug dependency problems, including admitted or urinalysis-detected illegal drug abuse.

Authority for maintenance of the system:

10 U.S.C. 3013, Secretary of the Army; 5 U.S.C. Part 792, Federal Employees' Health and Counseling Programs; E.O. 12564, 1986 Drug-Free Workplace; Army Regulation 40-66, Medical Record Administration and Health Care Documentation; and E.O. 9397 (SSN).

Purpose(s):

To record counselor's observations concerning patient's condition, current status, progress prognosis and other relevant treatment information regarding patients in an employee assistance treatment facility.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records in this system may not be disclosed without the prior written consent of such patient, unless the disclosure would be:

To medical personnel to the extent necessary to meet a bona fide medical emergency;

To qualified personnel for the purpose of conducting scientific research, management audits, financial audits, or program evaluation, but such personnel may not identify, directly or indirectly, any individual patient in any report of such research, audit, or evaluation, or otherwise disclose patient identities in any manner; and

If authorized by an appropriate order of a court of competent jurisdiction granted after application showing good cause therefore.

Note: Records of identity, diagnosis, prognosis, or treatment of any client/patient, irrespective of whether or when he/she ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. This statute takes precedence over the Privacy Act of 1974 in regard to accessibility of such records except to the individual to whom the record pertains. The DoD 'Blanket Routine Uses' do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper records in filing cabinets and electronic storage media.

Retrievability:

Patient's last name, Social Security Number (SSN) and Client Case Number.

Safeguards:

Paper records are maintained in file cabinets that are locked when the office is not occupied by authorized personnel. The automated database files are on a password-protected, stand alone computer. All patient records are maintained and used with the highest regard for patient privacy. Only persons on a need-to-know basis and trained in the handling of information protected by the Privacy Act have access to the system.

Retention and disposal:

Paper records are destroyed five years after termination of counseling. Destruction is by shredding, pulping, macerating, or burning.

Electronic records are purged of identifying data seven years after termination of counseling.

Aggregate data without personal identifiers is maintained for management/statistical purposes until no longer required.

System manager(s) and address:

Director, Pentagon Employee Referral Service, DiLorenzo TRICARE Health Clinic, Rm. 230, 5803 Army Pentagon, Washington, DC 20310-5803.

Notification procedure:

Individuals seeking to determine whether information about themselves is contained in this system should address written inquiries to the Director, Pentagon Employee Referral Service, DiLorenzo TRICARE HEALTH Clinic, 5803 Army Pentagon, Washington, DC 20310-5803.

The request should contain the full name, address, Social Security Number (SSN) and the signature of the subject individual.

Record access procedures:

Individuals seeking access to information about themselves contained in this system should address written inquiries to the Director, Pentagon Employee Referral Service, DiLorenzo TRICARE Health Clinic, Rm. 230, 5803 Army Pentagon, Washington, DC 20310-5803.

The request should contain the full name, address, Social Security Number (SSN) and the notarized signature of the subject individual.

Contesting record procedures:

The Army's rules for accessing records, and for contesting contents and appealing initial agency determinations are contained in Army Regulation 340-21; 32 CFR part 505; or may be obtained from the system manager.

Record source categories:

Patient, counselors, supervisors, co-workers or other agency or contractor-employee personnel; private individuals to include family members of patient and outside practitioners.

Exemptions claimed for the system:

None.

[FR Doc. E8-24473 Filed 10-14-08; 8:45 am]

BILLING CODE 5001-06-P